DEPARTMENT OF HEALTH AND HUMAN SERVICES

Agency for Healthcare Research and Quality

Meeting of the National Advisory Council for Healthcare Research and Quality

AGENCY: Agency for Healthcare Research and Quality (AHRQ), HHS.

ACTION: Notice of public meeting.

SUMMARY: In accordance with section 10(a) of the Federal Advisory Committee Act, this notice announces a meeting of the National Advisory Council for Healthcare Research and Quality.

DATES: The meeting will be held on Thursday November 2, from 4 p.m. to 6 p.m., and from Friday, November 3, from 9 a.m. to 2 p.m., and is open to the public. The Notice will not be published 15 days prior to the meeting because it was regrettably delayed due to administrative difficulties.

ADDRESSES: The meeting will be held at the Courtyard by Marriott, Gaithersburg Washingtonian Center, 204 Boardwalk Place, Gaithersburg, Maryland.

FOR FURTHER INFORMATION CONTACT: Deborah Queenan, Coordinator of the Advisory Council, at the Agency for Healthcare Research and Quality, 540 Gaither Road, Rockville, Maryland, 20850, (301) 427-1330. For press-related information, please contact Karen Migdail at (301) 427-1855.

If sign language interpretation or other reasonable accommodation for a disability is needed, please contact Mr. Donald L. Inniss, Director, Office of Equal Employment Opportunity Program, Program Support Center, on (301) 443-1144 no later than October 30, 2006. The agenda, roster, and minutes are available from Ms. Bonnie Campbell, Committee Management Officer, Agency for Healthcare Quality and Research, 540 Gaither Road, Rockville, Maryland 20850. Her phone number is (301) 427-1554.

SUPPLEMENTARY INFORMATION:

1. Purpose

Section 921 of the Public Health Service Act (42 U.S.C. 299c) established the National Advisory Council for Healthcare Research and Quality. In accordance with its statutory mandate, the Council is to advise the Secretary of the Department of Health and Human Services and the Director, Agency for Healthcare Research and Quality (AHRQ), on matters related to actions of the Agency to enhance the quality, improve the outcomes, reduce the costs of health care services, improve access to such services through scientific research, and to promote improvements in clinical practice and in the organization, financing, and delivery of health care services.

The Council is composed of members of the public appointed by the Secretary and Federal ex-officio members.

II Agenda

On Thursday, November 2, the Council meeting will begin at 4 p.m., with the call to order by the Council Chair and approval of previous Council minutes. The Director, AHRQ, will present her update on AHRQ's current research, programs, and initiatives. Following the update, the Council will discuss the topic Visioning the Future. The discussion of Visioning the Future will continue Friday morning, November 3. The official agenda will be available on AHRQ's Web site at http://www.ahrq.gov no later than November 1, 2006.

Dated: October 30, 2006.
Carolyn M. Clancy,
Director.

[FR Doc. 06-9039 Filed 10-31-06; 10:10 am]

BILLING CODE 4160-90-M